DEPARTMENT OF THE TREASURY

Submission for OMB Review; Comment Request

February 20, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 30, 2001 to be assured of consideration.

Bureau of Alcohol, Tobacco and Firearms (BATF)

OMB Number: 1512-0116.

Form Number: ATF F 5200.11.

Type of Review: Extension.

Title: Notice of release of Tobacco Products, Cigarette Papers, or Cigarette Tubes.

Description: The form documents releases of tobacco products and cigarette papers and tubes from custody and returns of such articles to a manufacturer or export warehouse shipments for use in the United States. The form is also used to ensure compliance with laws and regulations at the time of transaction and for post audit examination.

Respondents: Business or other for-profit.

Estimated Number of Respondents: 153.

Estimated Burden Hours Per Respondent: 15 minutes.

Frequency of Response: On occasion.

Estimated Total Reporting Burden: 306 hours.

OMB Number: 1512-0333.

Recordkeeping Requirement ID Number: ATF REC 5130/1.

Type of Review: Extension.

Title: Usual and Customary Business Records Maintained by Brewers.

Description: The Bureau of Alcohol, Tobacco and Firearms audits brewers' records to verify production of beer and cereal beverage and to verify the quantity of beer removed subject to tax and removed without payment of tax.

Respondents: Business or other for-profit.

Estimated Number of Recordkeepers: 1,400.

Estimated Burden Hours Per Recordkeeper: 1 hour.

Frequency of Response: On occasion.

Estimated Total Recordkeeping Burden: 1 hour.

OMB Number: 1512-0390.

Form Number: ATF F 5020.29.

Type of Review: Extension.

Title: Request for Disposition of Offense.

Description: The information provided on this form determines whether an applicant is eligible to receive a Federal license or permit. If an applicant applies for a license or permit and has an arrest record charged with a violation of Federal or State law and there is no record present of the disposition of the case(s), the form is sent to the custodian or records to ascertain the disposition of the case.

Respondents: Individuals or households, Business or other for-profit.

Estimated Number of Respondents: 3,000.

Estimated Burden Hours Per Respondent: 30 minutes.

Frequency of Response: On occasion.

Estimated Total Reporting Burden: 1,500 hours.

OMB Number: 1512-0478.

Recordkeeping Requirement ID Number: ATF REC 5130/3 and ATF REC 5130/4.

Type of Review: Extension.

Title: Marks on Equipment and Structures (5130/3); and Marks and Labels on Containers of Beer (5130/4).

Description: Marks, signs and calibrations are necessary on equipment and structures for identifying major equipment for accurate determination of tank contents, and segregation of taxpaid and nontaxpaid beer. Marks and labels on containers of beer are necessary to inform consumers of container contents, and to identify the brewer and place of production.

Respondents: Business or other for-profit.

Estimated Number of Recordkeepers: 1,400.

Frequency of Response: On occasion.

Estimated Burden Hours Per Recordkeeper: 1 hour.

Estimated Total Recordkeeping Burden: 1 hour.

Clearance Officer: Frank Bowers (202) 927-8930,Bureau of Alcohol, Tobacco and Firearms, Room 3200, 650 Massachusetts Avenue, NW., Washington, DC 20226.

OMB Reviewer: Alexander T. Hunt (202) 395-7860, Office of Management and Budget, Room 10202, New Executive Office Building, Washington, DC 20503.

Lois K. Holland,
Departmental Reports Management Officer.

[FR Doc. 01-4817 Filed 2-27-01; 8:45 am]

BILLING CODE 4810-31-U